NATIONAL ARCHIVES AND RECORDS ADMINISTRATION

[NARA-2023-030]

Records Management; General Records Schedule (GRS); GRS Transmittal 34

AGENCY: National Archives and Records Administration (NARA).

ACTION: Notice of new General Records Schedule (GRS) Transmittal 34.

SUMMARY: NARA is issuing revisions to the General Records Schedule (GRS). The GRS provides mandatory disposition instructions for records common to several or all Federal agencies. Transmittal 34 includes only changes we have made to the GRS since we published Transmittal 33 in January 2023. Additional GRS schedules remain in effect that we are not issuing via this transmittal.

DATES: This transmittal is effective June 23, 2023.

ADDRESSES: You can find all GRS schedules and FAQs at http://www.archives.gov/records-mgmt/grs.html (in Word, PDF, and CSV formats). You can download the complete current GRS, in PDF format, from the same location.

FOR FURTHER INFORMATION CONTACT: For more information about this notice or to obtain paper copies of the GRS, contact Eddie Germino, Regulatory and External Policy Program Manager, by email at regulation_comments@nara.gov or by telephone at 301.837.3758. Writing and maintaining the GRS is the GRS Team's responsibility. This team is part of Records Management Operations in the Office of the Chief Records Officer, at NARA. You may contact NARA's GRS Team with general questions about the GRS at GRS_Team@nara.gov.

Your agency's records officer may contact the NARA appraiser with whom your agency normally works for support in carrying out this transmittal and the revised portions of the GRS. You may access a list of appraisal and scheduling contacts on our website at http://www.archives.gov/records-mgmt/appraisal/index.html.

SUPPLEMENTARY INFORMATION: GRS Transmittal 34 announces changes to the General Records Schedules (GRS) made since NARA published GRS Transmittal 33 in January 2023. The GRS provide mandatory disposition instructions for records common to several or all Federal agencies.

Transmittal 34 includes one new schedule and alterations to four previously published schedules. As with the past few transmittals, this transmittal publishes only those schedules that are new or have changed since they were last published in a transmittal. Other schedules not published in this transmittal remain current and authoritative. You can find all schedules (in Word and PDF formats), general GRS FAQs, and schedule specific FAQs at http://www.archives.gov/records-mgmt/grs.html.

1. What changes does this transmittal make to the GRS?

GRS Transmittal 34 one new schedule:

GRS 4.5 Digitizing Records DAA-GRS-2022-0010

This transmittal also publishes four updates:

GRS 4.1 Records Management Records (see question 3 below)

GRS 4.2 Information Access and Protection Records (see question 4 below)

GRS 5.2 Transitory and Intermediary Records (see question 5 below)

GRS 5.4 Facility, Equipment, Vehicle, Property, and Supply Records (see question 6 below)

2. What changes did we make to GRS 4.1, Records Management Records?

We marked item 050, Validation records for digitized temporary records, as superseded. These records are now scheduled by GRS 4.5, item 010 (DAA-GRS-2022-0010-0001).

3. What changes did we make to GRS 4.2, Information Access and Protection Records?

We marked items 010, General information request files, and 130, Personally identifiable information extracts, as superseded. These records are now scheduled by GRS 5.2, item 010 (DAA-GRS-2022-0009-0001).

4. What changes did we make to GRS 5.2, Transitory and Intermediary Records?

We revised this schedule to remove references to source records that have been digitized. These source records are now scheduled by GRS 4.5, item 010 (DAA-GRS-2022-0010-0001).

Additionally, the item descriptions have been revised to remove specific examples of record types covered by each item. The examples will be provided in GRS 5.2 Frequently Asked Questions (FAQs). This is part of a new approach we are taking with the GRS to focus on the criteria that identify records rather than long lists of examples that may not clearly represent the entire coverage of the disposition authority.

5. What changes did we make to GRS 5.4, Facility, Equipment, Vehicle, Property, and Supply Records?

We marked items 071, Facility, space, and equipment inspection, maintenance, and service records—Records tracking completion of custodial and minor repair work, as superseded. These records are now scheduled by GRS 5.2, item 010 (DAA-GRS-2022-0009-0001).

6. How do agencies cite GRS items?

When citing the legal disposition authority for records covered by the GRS in NARA documents, either when transferring records to Federal Records Centers for storage, to NARA for accessioning, or when requesting GRS deviations on record schedules, use the “DAA” number in the “Disposition Authority” column of the table. For example, use “DAA-GRS-2017-0007-0008” rather than “GRS 2.2, item 070.” A GRS Disposition Authority Look-Up Table is available on our website at https://www.archives.gov/records-mgmt/grs.html.

7. Do agencies have to take any action to implement these GRS changes?

NARA regulations (36 CFR 1226.12(a)) require agencies to disseminate GRS changes within six months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this transmittal. Please send these notifications to GRS_Team@nara.gov.

If you do not have an already existing agency-specific authority but wish to apply a retention period that differs from that specified in the GRS, you must submit a records schedule to NARA for approval via the Electronic Records Archives.

8. How can an agency get copies of the new GRS?

You can download the complete current GRS, in PDF format, from NARA's website at http://www.archives.gov/records-mgmt/grs.html.

9. Whom should an agency contact for further information?

Please contact GRS_Team@nara.gov with any questions related to this transmittal.

Colleen J. Shogan,
Archivist of the United States.

[FR Doc. 2023-13369 Filed 6-22-23; 8:45 am]

BILLING CODE 7515-01-P